DEPARTMENT OF COMMERCE

Patent and Trademark Office

Agency Information Collection Activities; Submission to the Office of Management and Budget (OMB) for Review and Approval; Comment Request; Clearance for the Collection of Qualitative Feedback on Agency Service Delivery

The United States Patent and Trademark Office (USPTO) will submit the following information collection request to the OMB for review and clearance in accordance with the Paperwork Reduction Act of 1995, on or after the date of publication of this notice. The USPTO invites comment on this information collection renewal, which helps the USPTO assess the impact of its information collection requirements and minimize the public's information collection burden. Public comments were previously requested via the Federal Register on April 22, 2021 during a 60-day comment period. This notice allows for an additional 30 days for public comments.

Agency: United States Patent and Trademark Office, Department of Commerce.

Title: Clearance for the Collection of Qualitative Feedback on Agency Service Delivery.

OMB Control Number: 0651-0080.

Form Numbers: None.

Type of Review: Extension and revision of a currently approved information collection.

Estimated Number of Respondents: 100,000 respondents per year.

Estimated Number of Responses: 100,000 responses per year.

Estimated Time per Response: The USPTO estimates that it will take the public approximately 10 minutes to gather the necessary information, create the document, and submit the completed information to the USPTO.

Estimated Total Annual Respondent Burden Hours: 16,667 hours.

Estimated Total Annual Non-Hour Cost Burden: $0.

Needs and Uses: The Agency will collect, analyze, and interpret information gathered to identify strengths and weaknesses of current services. Based on feedback received, the Agency will identify changes needed to improve programs and services. The solicitation of feedback will target areas such as: Timeliness, appropriateness, accuracy of information, courtesy, efficiency of service delivery, and resolution of issues with service delivery. The USPTO is committed to hearing feedback from its customers. Responses will be assessed to identify service areas in need of improvement. This information collection covers a variety of methods used by USPTO to obtain qualitative feedback from the public.

Affected Public: Private sector; individuals or households.

Frequency: On occasion.

Respondent's Obligation: Voluntary.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0080.

Further information can be obtained by:

• Email: InformationCollection@uspto.gov. Include “0651-0080 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-20949 Filed 9-24-21; 8:45 am]

BILLING CODE 3510-16-P